DEPARTMENT OF TRANSPORTATION

Federal Aviation Administration

Public Notice for a Change in Use of Aeronautical Property at the Greenwood-Leflore Airport, Greenwood, MS

AGENCY: Federal Aviation Administration (FAA), DOT.

ACTION: Request for public comment.

SUMMARY: Under the provisions of Title 49, U.S.C. Section 47153(c), notice is being given that the FAA is considering a request from the Greenwood-Leflore Airport to change the use of an area on the airport to non-aeronautical use.

DATES: Comments must be received on or before October 23, 2008.

ADDRESSES: Comments on this notice may be mailed or delivered in triplicate to the FAA at the following address: Jackson Airports District Office, 100 West Cross Street, Suite B, Jackson, MS 39208-2307.

In addition, one copy of any comments submitted to the FAA must be mailed or delivered to Mr. Bardin Redditt, Airport Manager at the following address: 502-A Airport Road, Greenwood, MS 38930.

FOR FURTHER INFORMATION CONTACT: Jeff Orr, Program Manager, Jackson Airports District Office, 100 West Cross Street, Suite B, Jackson, MS 39208-2307, (601) 664-9885. The request to change use may be reviewed in person at this same location.

SUPPLEMENTARY INFORMATION: The Greenwood-Leflore Airport in Greenwood, Mississippi, is considering a proposal for the expansion of the lease area of a commercial tenant presently located on the airport. The lease area of this tenant will increase from 12.82 acres to 28.71 acres. The business operation of this aeronautical tenant necessarily includes a non-aeronautical component. Of this 28.71 acres proposed for lease, 7.50 acres of paved apron and adjacent unpaved areas will be changed to non-aeronautical use. The Airport has already partially offset the loss of this pavement by the recent construction of a new general aviation (GA) apron. This proposal will require the displacement of one aeronautical user. The Airport has provided an offer to this aeronautical user for the purchase of his facilities. Additional ramp area and space for hangar construction is available on the new GA apron. The increased revenue generated by the proposed lease expansion will be used for operations and maintenance and capital improvements on the Airport.

Any person may inspect the request in person at the FAA office listed above under “FOR FURTHER INFORMATION CONTACT.” In addition, any person may, upon request, inspect the request, notice and other documents germane to the request in person at the offices of the Greenwood-Leflore Airport, Greenwood, Mississippi.

Issued in Jackson, Mississippi, on September 11, 2008.
Rans D. Black,
Manager, Jackson Airports District Office, Southern Region.

[FR Doc. E8-22060 Filed 9-22-08; 8:45 am]

BILLING CODE 4910-13-M